DEPARTMENT OF HEALTH AND HUMAN SERVICES

National Institutes of Health

Notice To Announce Request for Information (RFI) Inviting Input on NIAAA's 2022-2026 Strategic Plan Outline

AGENCY: National Institutes of Health, HHS.

ACTION: Notice.

SUMMARY: The National Institute on Alcohol Abuse and Alcoholism (NIAAA) is currently developing an updated strategic plan to highlight priorities and guide activities for advancing the Institute's mission over the next five years. Through this Request for Information, NIAAA seeks comments on the draft outline for its FY 2022-2026 Strategic Plan from diverse stakeholders, including scientific experts, health care providers, patients and family members, advocacy groups, other federal agencies, and non-governmental scientific, professional, and healthcare organizations.

DATES: Comments must be received by July 30, 2021, to ensure consideration. Responses will be reviewed by NIAAA staff and considered during the development of the 2022-2026 Strategic Plan.

ADDRESSES: To view and comment on the strategic plan outline, please visit our online response form: RFI online response form.

FOR FURTHER INFORMATION CONTACT: Rachel I. Anderson, Strategic Plan Coordinator, Office of Science Policy and Communications, National Institute on Alcohol Abuse and Alcoholism, NIH, 6700B Rockledge Drive, Bethesda, MD 20817. Telephone: 301-827-4681. Email: NIAAASciencePolicyBranch@nih.gov.

SUPPLEMENTARY INFORMATION: In accordance with the 21st Century Cures Act, NIH institutes are required to regularly update their strategic plans. The mission of the National Institute on Alcohol Abuse and Alcoholism (NIAAA) is to generate and disseminate fundamental knowledge about the effects of alcohol on health and well-being, and apply that knowledge to improve diagnosis, prevention, and treatment of alcohol-related problems, including alcohol use disorder, across the lifespan. NIAAA is the world's largest funder of alcohol research.

Dated: June 16, 2021.
Vicki E. Buckley,
Associate Director of Administration, National Institute on Alcohol Abuse and Alcoholism, National Institutes of Health.

[FR Doc. 2021-13239 Filed 6-23-21; 8:45 am]

BILLING CODE 4140-01-P